DEPARTMENT OF COMMERCE

Bureau of Industry and Security

15 CFR Part 744

[Docket No. 230221-0050]

RIN 0694-AJ13

Additions of Entities to the Entity List

AGENCY: Bureau of Industry and Security, Department of Commerce.

ACTION: Final rule.

SUMMARY: The Department of Commerce is amending the Export Administration Regulations (EAR) by adding 10 entities under 13 entries to the Entity List. These entities have been determined by the U.S. Government to be acting contrary to the national security or foreign policy interests of the United States. These entities are listed on the Entity List under the destinations of Canada (2), China (5), France (1), Luxembourg (1), Netherlands (1), and Russia (3).

DATES: This rule is effective February 24, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add AOOK Technology Ltd., under the destination of China; CPUNTO Inc., under the destination of Canada; Dexias Industrial Products and Trade Limited Company, under the destination of Russia; Electronic Network Inc., under the destination of Canada; Innovation and Technologies LLC, under the destination of Russia; and Promtekhkomplekt JSC, under the destination of Russia, to the Entity List. These additions are based on information that these companies significantly contribute to Russia's military and/or defense industrial base and are involved in activities contrary to U.S. national security and foreign policy interests under §§ 744.11 and 744.21 of the EAR. These entities will receive a footnote 3 designation because the ERC has determined that they are Russian or Belarusian `military end users' in accordance with § 744.21. A footnote 3 designation subjects these entities to the Russia/Belarus-Military End User Foreign Direct Product (FDP) rule, detailed under § 734.9(g). These entities are added with a license requirement for all items subject to the EAR. License applications will be reviewed under a policy of denial for all items subject to the EAR, other than applications for food and medicine designated as EAR99, which will be reviewed on a case-by-case basis.

The ERC determined to add Beijing Ti-Tech Science and Technology Development Co., under the destination of China; Beijing Yunze Technology Co., Ltd., under the destination of China; China HEAD Aerospace Technology Co., under the destinations of China, France, and the Netherlands; and Spacety Co., Ltd., under the destinations of China and Luxembourg, to the Entity List. These additions are based on information that these companies significantly contribute to Russia's military and/or defense industrial base and are involved in activities contrary to U.S. national security and foreign policy interests under §§ 744.11 and 744.21 of the EAR. These entities will receive a footnote 3 designation because the ERC has determined that they are Russian or Belarusian `military end users' in accordance with § 744.21. A footnote 3 designation subjects these entities to the Russia/Belarus-Military End User Foreign Direct Product (FDP) rule, detailed under § 734.9(g). These entities are added with a license requirement for all items subject to the EAR. License applications for these entities will be reviewed under a policy of denial for all items subject to the EAR, other than applications for food and medicine designated as EAR99, which will be reviewed on a case-by-case basis.

For the reasons described above, this final rule adds the following 10 entities under 13 entries to the Entity List and includes, where appropriate, aliases:

Canada

• CPUNTO Inc., and

• Electronic Network Inc.

China

• AOOK Technology Ltd.,

• Beijing Ti-Tech Science and Technology Development Co.,

• Beijing Yunze Technology Co., Ltd.,

• China HEAD Aerospace Technology Co., and

• Spacety Co. Ltd.

France

• China HEAD Aerospace Technology Co.

Luxembourg

• Spacety Co., Ltd.

Netherlands

• China HEAD Aerospace Technology Co.

Russia

• Dexias Industrial Products and Trade Limited Company,

• Innovation and Technologies LLC, and

• Promtekhkomplekt JSC.

Allied Governments Note

BIS notes that this rule is meant to serve as a response to Russian aggression against Ukraine. This rule does include entities in several allied and partnered countries, but is not an action against the countries in which the entities are located or registered or the governments of those countries. This rule only serves as an action against those entities listed, which have assisted the Russian military, contrary to U.S. foreign and national security policy interests.

Savings Clause

For the changes being made in this final rule, shipments of items removed from eligibility for a License Exception or export, reexport, or transfer (in-country) without a license (NLR) as a result of this regulatory action that were en route aboard a carrier to a port of export, reexport, or transfer (in-country), on February 24th, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended:

a. Under CANADA, by adding in alphabetical order, entries for “CPUNTO Inc.” and “Electronic Network Inc.”;

b. Under CHINA, PEOPLE'S REPUBLIC OF, by adding, in alphabetical order, entries for “AOOK Technology Ltd.”; “Beijing Ti-Tech Science and Technology Development Co.”; “Beijing Yunze Technology Co., Ltd.”; “China HEAD Aerospace Technology Co.”; and “Spacety Co., Ltd.”;

c. Under FRANCE, by adding in alphabetical order, an entry for “China HEAD Aerospace Technology Co.”;

d. Under LUXEMBOURG, by adding in alphabetical order, an entry for “Spacety Co., Ltd.”;

e. Under NETHERLANDS, by adding in alphabetical order, an entry for “China HEAD Aerospace Technology Co.”; and

f. Under RUSSIA, by adding, in alphabetical order, entries for “Dexias Industrial Products and Trade Limited Company”; “Innovation and Technologies LLC”; and “Promtekhkomplekt JSC”.

Supplement No. 4 to Part 744—Entity List

* * * * *

* * * * * * *
Country | Entity | License requirement | License review policy | Federal Register citation
* * * * * * *
CANADA | * * * * * *
| CPUNTO Inc., a.k.a., the following one alias: —CPUNTO. 5929 Route Transcanadienne Ste 130 St. Laurent, Quebec H4T 1Z6 Canada. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| Electronic Network Inc., a.k.a., the following six aliases: —Electronic Network; —Electronic Network Holdings; —Electronic Network Holdings Inc.; —Electronic Network Incorporated; —Electronic Network Products Inc.; and —Electronic's Network & Technology Corp. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| 145 Montee De Liesse Ste 10 St. Laurent, Quebec H4T 1T9 Canada.
| * * * * * *
* * * * * * *
CHINA, PEOPLE'S REPUBLIC OF | * * * * * *
| AOOK Technology Ltd., a.k.a., the following two aliases: —AOOK; and —AOOK Electronics. Rm 803 Chevalier Building 45-51 Chatham Rd S Tsim Sha Tsui Hong Kong, China. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| Beijing Ti-Tech Science and Technology Development Co., a.k.a., the following two aliases: —Beijing Ti-Tech; and —China Ti-Tech Development Co. Ltd. 5F, Building 5 Science and Technology Park, A-2 North Xisanhuan Road, Beijing 100081 China. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| Beijing Yunze Technology Co., Ltd., a.k.a., the following three aliases: —Beijing Yunze; —Beijing Yunze Technology Company; and —Yunze Beijing. West of Floor 1, Building 7, Jiajia Garden Courtyard 15, Fengtai Beijing 100000 China; and 201, Floor 2, 36#, Yinhe Garden, Miyun District Beijing 100000 China; and 402, Floor 4, No. 85, Huilongguan W. Street, Changping District Beijing 102200 China. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| China HEAD Aerospace Technology Co., a.k.a., the following seven aliases: —China HEAD; —China HEAD Technology Co; —HEAD Aerospace; —HEAD Aerospace Group; —HEAD Aerospace Netherlands; —HEAD France; and —HEAD Technology France. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| 5F, Bldg 5, Science and Technology Park, A-2 North Xisanhuan Road, Haidian District, Beijing 100081, P.R. China; and Room 01, floor 13, building 5, no. A2 courtyard, west 3rd ring r. Beijing, 10004-8, China; and B-11a-02 Keshi Plaza 28 Shangdi Xinxi Rd Beijing 100058 China. (See alternate address under France and Netherlands).
| Spacety Co., Ltd., a.k.a., the following three aliases: —Changsha Tianyi Space Science and Technology Research Institute; —Spacety; and —Spacety Luxembourg S.A. 9 Dengzhuang South Rd Beijing, Beijing China; and Room 445, 9th Floor, Block B, No. 18 Zhongguancun Street, Haidian District, Beijing China. (See alternate address under Luxembourg). | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
* * * * * * *
FRANCE | * * * * * *
| China HEAD Aerospace Technology Co., a.k.a., the following seven aliases: —China HEAD; —China HEAD Technology Co; —HEAD Aerospace; —HEAD Aerospace Group; —HEAD Aerospace Netherlands; —HEAD France; and —HEAD Technology France. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| 71 Boulevard national, 92250 La Garenne-Colombes Paris, France. (See alternate address under China and Netherlands).
| * * * * * *
* * * * * * *
LUXEMBOURG | * * * * * *
| Spacety Co., Ltd., a.k.a., the following three aliases: —Changsha Tianyi Space Science and Technology Research Institute; —Spacety; and —Spacety Luxembourg S.A. 9, Avenue des Hauts-Fourneaux, L-4362 Esch-Sur-Alzette, Luxembourg. (See alternate address under China). | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
* * * * * * *
NETHERLANDS | * * * * * *
| China HEAD Aerospace Technology Co., a.k.a., the following seven aliases: —China HEAD; —China HEAD Technology Co; —HEAD Aerospace; —HEAD Aerospace Group; —HEAD Aerospace Netherlands; —HEAD France; and —HEAD Technology France. Kapteynstraat 1 2201 BB Noordwijk ZH, Netherlands. (See alternate address under China and France). | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
* * * * * * *
RUSSIA
| Dexias Industrial Products and Trade Limited Company, a.k.a., the following five aliases: —Dexias; —Dexias Endil strivel; —Dexias IPTLC; —Mainbox LLC; and —Orunler ve Ticaret Limited Sirketi. Apartment 261, Building 3, Ryabinovaya Street, Moscow, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| Innovation and Technologies LLC, a.k.a., the following two aliases: —Intekh; and —INTEKH OOO. D. 83 K. 3 OFIS 516, Ul. Savushkina, St. Petersburg 197374 Russia; and Mira prospect, 2-7 601901 Kovrov, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER AND 2/27/2023].
| * * * * * *
| Promtekhkomplekt JSC, a.k.a., the following four aliases: —AO TipoMTeXKOMirneKT; —Promtech Komplekt; —Promtekhkomplekt; and —Promtekhkomplekt Joint Stock Company. MKAD Greenwood Business Park building 9 floor 3, pos. Putilko o, 69 km., Moscow region, 143441, Russia; and 6/1 Griboyedov Street, OF.23, Tyumen, Tyumen Oblast, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 2/27/2023].
* * * * * * *

* * * * *

Thea D. Rozman Kendler,
Assistant Secretary for Export Administration.

[FR Doc. 2023-03929 Filed 2-24-23; 8:45 am]

BILLING CODE 3510-JT-P